DEPARTMENT OF ENERGY

Federal Energy Regulatory Commission

18 CFR Part 101

[Docket No. RM04-12-000]

Accounting and Financial Reporting for Public Utilities Including RTOs; Notice of Extension of Time

April 2, 2007.

AGENCY: Federal Energy Regulatory Commission, DOE.

ACTION: Final rule: notice of extension of time.

SUMMARY: On December 16, 2005, the Commission issued Order No. 668, a Final Rule amending the Commission's regulations to update the accounting and reporting requirements for public utilities and licensees, including independent system operators and RTOs. Because the Commission has updated the submission software used to file FERC Form Nos. 1 and 1-F, the Commission is issuing a notice extending the filing deadline for the filing of 2006 FERC Form Nos. 1 and 1-F.

DATES: The filing deadline for 2006 FERC Form Nos. 1 and 1-F is extended to May 18, 2007.

FOR FURTHER INFORMATION CONTACT: Brenda D. Devine, Division of Financial Regulation, Federal Energy Regulatory Commission, 888 First Street, NE., Washington, DC 20426, (202) 502-8522.

SUPPLEMENTARY INFORMATION:

Notice Granting Extension of Time for Filing FERC Form Nos. 1 and 1-F

On December 16, 2005, the Commission issued Order No. 668, a Final Rule amending the Commission's regulations to update the accounting and reporting requirements for public utilities and licensees, including independent system operators and regional transmission organizations.¹ Order No. 668 amended FERC Form Nos. 1 and 1-F by adding new schedules and revising existing schedules in the forms. The Commission updated the submission software used to file FERC Form Nos. 1 and 1-F to reflect the new financial reporting requirements of Order No. 668.

¹ Accounting and Financial Reporting for Public Utilities Including RTOs, Order No. 668, FERC Stats. & Regs. ¶ 31,199 (2005), reh'g denied, Order No. 668-A, FERC Stats. & Regs. ¶ 31,215 (2006), reh'g denied, 117 FERC ¶ 61,066 (2006).

The annual filing date for FERC Form Nos. 1 and 1-F is April 18. However, in light of the software changes made to implement Order No. 668, the filing deadline for the 2006 FERC Form Nos. 1 and 1-F is extended until May 18, 2007.

Philis J. Posey,
Acting Secretary.

[FR Doc. E7-6511 Filed 4-6-07; 8:45 am]

BILLING CODE 6717-01-P